DEPARTMENT OF TRANSPORTATION

Federal Aviation Administration

14 CFR Parts 11, 21, and 25

Changed Product Rule Meeting; Public Meeting

AGENCY: Federal Aviation Administration, DOT.

ACTION: Final rule; Public meeting.

SUMMARY: This document announces two public meetings pertaining to the recent issue of the Changed Product Rule (65 FR 36243). Meetings in both the United States and in Europe have been planned. The international meeting will be held in Hoofddorp, The Netherlands September 20-21, 2000. The U.S. meeting will be held in Kansas City, Missouri, October 3-4, 2000. The international meeting is scheduled in support of the JAA Notice of Proposed Amendment (NPA) circulation to help commenters to better understand the NPA. The U.S. meeting will focus on the rule, transport category aircraft, as well as other products (normal, utility, acrobatic, and commuter airplanes; normal and transport category rotorcraft; manned free ballons; aircraft engines; and propellers). The meeting purpose is to present information regarding the rule, guidance material and to gather comments pertaining to the development of the follow-on Advisory Circular revisions related to general aviation aircraft and other product areas.

DATES: The international meeting will be held September 20-21, 2000, beginning at 11:00 a.m. in Hoofddorp, The Netherlands.

The U.S. industry meeting will be held October 3-4, 2000, starting at 9:00 a.m. in Kansas City, Missouri. Registration begins at 8:00 a.m.

ADDRESSES: The meetings will be held at the following locations:

International: Joint Aviation Authorities (JAA) Headquarters, Saturnusstraat 8-10, 2132HB Hoofddorp, The Netherlands.

U.S. Industry: Marriott Downtown, 200 West 12th Street, Kansas City, Missouri.

FOR FURTHER INFORMATION CONTACT: Requests regarding the logistics of the U.S. meeting should be directed to the Federal Aviation Administration (FAA), Small Airplane Directorate, Attention: Lester Cheng, ACE-111, 901 Locust, Room 301, Kansas City, Missouri 64106; telephone (816) 329-4120. For international and all other product information, contact FAA, Headquarters Office, Attention: Randall Petersen, AIR-110, 800 Independence Avenue SW, Washington DC 20251; telephone (202) 267-9583. In Europe, contact Joint Aviation Authorities Headquarters (JAA), Ms. Rosa Serrano, Saturnusstraat 8-10, 2132HB Hoofddorp, The Netherlands (31-23-5679745). No official record of the meeting will be maintained.

SUPPLEMENTARY INFORMATION:

Participation at the Public Meeting

Background

On June 7, 2000 (65 FR 36243), the FAA published amended type certification procedures for changed products. These amendments affect changes accomplished through either an amended type certificate or a supplemental type certificate. The amendments are needed to address the trend toward fewer products that are of completely new design and more products with multiple changes to previously approved designs. This final rule action will enhance safety by applying the latest airworthiness standards, to the greatest extent practicable, for the certification of significant design changes of aircraft, aircraft engines, and propellers.

These amended regulations become effective June 7, 2000. Mandatory compliance dates are December 10, 2001, for transport category airplanes and restricted category airplanes that have been certified using transport category standards, and December 9, 2002, for all other category aircraft and engines and propellers.

For the purposes of implementing these amended regulations, the FAA has chartered a Changed Product Rule Team to develop the necessary guidance materials allowing for proper orientation, application and standardization for the Aircraft Certification Service. These guidance materials include Notice, Advisory Circular (AC) and training. The Changed Product Rule Team started its work in April 1999.

At present, the AC draft applicable to part 25 airplanes has been developed. The philosophy and methodology adopted for this AC are derived from the approaches presented by the ICPTF (International Certification Procedures Task Force) Working Group III. Harmonizing this AC with JAA's version has been a constant effort throughout the development process. Notice of availability for public comment of this AC draft (for part 25 only) is scheduled for publication August 2000.

The next phase of the effort is to update the current AC (for part 25 only) by adding elements that are applicable to other parts (that is, parts 23, 27, 29, 31, 33 and 35). The FAA has determined that it is in the public interest to hold a public meeting for the purposes of sharing thoughts and gathering comments that need to be considered for the development of an AC related to general aviation aircraft and other products. Accordingly, the FAA will conduct this public meeting in Kansas City, Missouri.

Public Meeting Procedures

The following procedures have been established for the U.S. industry meeting:

1. Admission and participation in the public meeting is free. Registration will occur on the date of the meeting between 8:00 a.m. and 9:00 a.m. Seating will be limited to the first 300 participants.

2. Representatives from the FAA will conduct the meeting. A technical panel of FAA personnel will discuss information.

3. The issue will be limited to the Changed Product Rule and the development of an AC.

4. Sign and oral interpretations will be made available at the meeting, including assistive listening devices, if requested from the person listed under FOR FURTHER INFORMATION CONTACT at least 10 calendar days before the meeting. Anyone requiring other accommodations under the Americans with Disability Act should notify the individual listed under FOR FURTHER INFORMATION CONTACT at least 10 calendar days before the meeting.

5. Statements made by FAA personnel are intended to clarify issues.

6. The meeting will be conducted in an informal and nonadversarial manner.

Issued in Kansas City, Missouri on July 19, 2000.
Michael Gallagher,
Manager, Small Airplane Directorate, Aircraft Certification Service.

[FR Doc. 00-18894 Filed 8-1-00; 8:45 am]

BILLING CODE 4910-13-U